DEPARTMENT OF COMMERCE

International Trade Administration

Renewable Energy and Energy Efficiency Business Directory Survey

AGENCY: International Trade Administration, U.S. Department of Commerce.

ACTION: Opportunity to participate in the RE3 App.

SUMMARY: The U.S. Departments of State, Commerce, and Energy (the “Interagency Team”) announce an opportunity for U.S.-based suppliers and providers of clean energy, smart grid, and energy efficiency solutions to participate in an interactive directory of renewable energy and energy efficiency solutions. The Interagency Team has developed the beta version of an interactive app to serve as a mobile business directory for U.S. clean energy exporters, which can be accessed at http://www.re3app.com/. The app highlights deployments of sustainable technologies and systems at U.S. diplomatic missions and provides potential business partners around the world with a searchable interface to find information on potential U.S. technology and service providers. The app showcases a diverse array of clean energy goods and services, including renewable energy equipment (solar, wind, geothermal), biofuels, fuel cell power, smart grid technologies, and energy efficiency solutions, as well as U.S.-based services critical to the deployment of clean energy supplies. The app is expected to be available in mobile app stores around October 1, 2016. U.S. clean energy and energy efficiency exporters interested in registering to be part of the interactive directory and provide information on their company's solutions to be included in the app are requested to complete the online survey by no later than August 1, 2016. The app and survey are administered by the U.S. Department of State. The U.S. Department of Commerce is publishing this notice as part of its responsibility for public outreach for the directory.

Who will use the app?

Target users include Foreign Service Officers and Foreign Commercial Service Officers and their energy sector stakeholders in international markets. The app will enable users to easily demonstrate U.S. clean energy and energy efficiency solutions available in foreign markets and provide a tool to facilitate commercial partnerships that drive the deployment of U.S. technologies and services globally. Through the app, a global audience, as well as the American public, will be invited to learn more about environmental diplomacy efforts overseas, and the innovative U.S. companies powering them.

Disclaimer

The information submitted to the directory and displayed on the app is intended to inform users about U.S. clean energy and energy efficiency solutions. All U.S.-based businesses in these industries that meet the criteria specified in the online form will be eligible for the directory and app. The Interagency Team will perform due diligence on submissions to the Directory and expects that parties will perform their own due diligence, investigation, and background research before entering into a commercial relationship with any listed business or business contact facilitated through the product. A listing in the directory does not constitute endorsement of the business or its products, services or technology by the Interagency Team. The Interagency Team assumes no responsibility or liability for the actions users may take based on the information provided and reserves the right not to list any particular business.

ADDRESSES: To provide information for use in the app, U.S. companies are requested to complete the online survey by no later than August 1, 2016. The URL for the survey: http://fluidsurveys.com/s/re3app/.

FOR FURTHER INFORMATION CONTACT: Helaina Matza, Office of Innovation and Eco-Diplomacy, United States Department of State; 202.647.0716; sustainability@state.gov; or Cora Dickson, Office of Energy and Environmental Industries, United States Department of Commerce; 202-482-6083; reee@trade.gov.

Man Cho,
Acting Director, Office of Energy and Environmental Industries.

[FR Doc. 2016-16257 Filed 7-8-16; 8:45 am]

BILLING CODE 3510-DR-P